DEPARTMENT OF HOMELAND SECURITY

[Docket No. DHS-2019-0042]

Privacy Act of 1974; System of Records

AGENCY: U.S. Citizenship and Immigration Services, Department of Homeland Security.

ACTION: Notice of a Modified System of Records.

SUMMARY: In accordance with the Privacy Act of 1974, the Department of Homeland Security (DHS) proposes to modify and reissue a current DHS system of records titled, “DHS/U.S. Citizenship and Immigration Services (USCIS)-007 Benefits Information System.” This system of records describes DHS/USCIS collection, maintenance, processing, and adjudication of naturalization, lawful permanent residence, and other immigrant and nonimmigrant immigration-related requests (hereinafter collectively referred to as “immigration requests”) submitted to USCIS in accordance with U.S. immigration law. DHS/USCIS also uses the records contained in the Benefits Information System (BIS) to prevent individuals from fraudulently obtaining immigration and naturalization benefits and to deny immigration and naturalization requests submitted by individuals who pose national security or public safety threats. The BIS may also be used in support of employee performance and production reporting purposes, as well as track an employee or contractor's workload and efficiency in processing a particular immigration request, managing workloads, and providing statistical analyses to USCIS leadership.

DATES: Submit comments on or before November 12, 2019. This modified system will be effective upon publication. New or modified routine uses will be effective November 12, 2019.

ADDRESSES: You may submit comments, identified by docket number DHS-2019-0042 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528-0655.

Instructions: All submissions received must include the agency name and docket number DHS-2019-0042. All comments received will be posted without change to http://www.regulations.gov, including any personal information provided.

Docket: For access to the docket to read background documents or comments received, go to http://www.regulations.gov.

FOR FURTHER INFORMATION CONTACT: For general questions, please contact: Donald K. Hawkins, (202) 272-8030, uscis.privacycompliance@uscis.dhs.gov, Privacy Officer, U.S. Citizenship and Immigration Services, 20 Massachusetts Avenue NW, Washington, DC 20529. For privacy questions, please contact: Jonathan R. Cantor, (202) 343-1717, Privacy@hq.dhs.gov, Acting Chief Privacy Officer, Privacy Office, Department of Homeland Security, Washington, DC 20528-0655.

SUPPLEMENTARY INFORMATION:

I. Background

In accordance with the Privacy Act of 1974, 5 U.S.C. 552a, the Department of Homeland Security (DHS) U.S. Citizenship and Immigration Services (USCIS) proposes to modify and reissue a current DHS system of records titled, “DHS/USCIS-007 Benefits Information System.”

DHS/USCIS oversees lawful immigration and non-immigration to the United States and is responsible for the administration of immigration, non-immigration, and naturalization adjudication functions and for establishing many immigration policies and priorities. In executing its mission, DHS/USCIS performs functions that include the intake, review, and adjudication of the following types of benefits:

(1) Family-Based;

(2) Employment-Based;

(3) Humanitarian-Based;

(4) Adoption-Based; and

(5) Citizenship and Naturalization-Based.

The BIS System of Records Notice (SORN) covers the processing of immigrant and nonimmigrant immigration-related requests.¹ The Secretary of Homeland Security also has the discretion to review and grant other types of immigration requests.² The BIS SORN is specific to USCIS's collection, use, maintenance, dissemination, and storage of immigration-related request information, including case processing and decisional data.³ USCIS records case processing information, such as date the immigration related request was filed or received by USCIS, request status, location of record, other control number (when applicable), fee receipt data, status of USCIS appointments and interviews, date of issuance of a notice, and whether the request form was referred to the Fraud Detection and National Security Directorate for review. Decisional data such as an approval/denial code is also stored in BIS. Information within BIS may also be stored in an immigration file (such as an Alien File).⁴

¹ This SORN covers all immigrant and nonimmigrant benefit requests, with the exception of requests for asylum, refugee, and intercountry adoption.

² For example, USCIS reviews applications for Deferred Action. Deferred Action is a discretionary determination to defer a deportation of an individual as an act of prosecutorial discretion. Deferred Action can be granted by USCIS or a federal immigration judge.

³ The Immigration Biometric Background Check SORN covers the background check process, while the Benefits Information System SORN covers the storage of background check results. See 83 FR 36950 (July 31, 2018).

⁴ The Alien File or A-File is the official record regarding the transactions of an individual as he or she passes through the U.S. immigration and inspection process. The Alien File contains information relating to immigration benefits processing, protection of national security, and administering and enforcing immigration and nationality laws and related statutes.

DHS/USCIS is publishing this modified system of records notice to make several changes for transparency and to describe new initiatives. The purpose of this SORN has been expanded to track an employee or contractor's workload and efficiency in processing a particular benefit request, managing workloads, and providing statistical analyses to USCIS leadership.

The categories of individuals covered by this SORN has been expanded to include prospective accredited representatives seeking to be recognized by the Board of Immigration Appeals, as well as add a new category to cover the collection, maintenance, and use of obligors (surety) and their agents.

New categories of records have been added relating to immigration requestors, which includes country of residence; credit scores and reports; public benefit application, receipt, and certification for receipt information; publicly available social media information and other publicly available information, which may be collected during the course of the benefit adjudication process. New categories of records have been added relating to attorneys and current and/or prospective representatives, which includes USCIS Online Account Number, other identifying numbers (e.g., Attorney Bar Number or equivalent), educational and training history, work history and qualifications, academic and professional achievements, and letters of recommendations. New categories of records have been added relating to bond obligors and their agents including name, identification number(s), contact information (including address, telephone number, email address), signature, and power of attorney. Biometric information and background check results have been removed from remove existing categories of records relating to immigration requestors, derivatives, and family members because they are covered under DHS/USCIS-018 Immigration Biometric and Background Check SORN.

DHS/USCIS-017 Refugee Case Processing and Security Screening Information SORN and DHS/USCIS-018 Immigration Biometric and Background Check SORN have been added as record source categories, and DHS/USCIS-002 Background Check Service SORN and DHS/USCIS-003 Biometric Storage System SORN have been removed as record source categories.

The routine use section of this SORN has been modified, including updating Routine Use E and adding Routine Use F to comply with requirements set forth by OMB Memorandum M-17-12, “Preparing for and Responding to a Breach of Personally Identifiable Information,” (Jan. 3, 2017); expanding Routine Use V to cover the sharing of information with the petitioning employers to aid in the approval or denial of request to become a permanent resident; updating Routine Use Z to replace Immigration Judge with Federal Judge; adding Routine Use BB for disclosure to government agencies for the purposes of testing new technology; adding Routine Use CC for disclosure to federal, state, local, and tribal public benefit granting agencies to ascertain whether public benefits have been issued to the benefit requestor; adding Routine Use DD for the disclosure to an individual or entity seeking to post or arrange bond; and adding Routine Use EE for the disclosure of petition outcomes to labor unions in instances in which USCIS approves or denies a petition submitted with a union consultation.

Finally, the retention schedules have been modified to reflect disposition schedule by form type and actions, and expand the retention of data in certain case management systems to up to 50 years.

Consistent with DHS's information sharing mission, information stored in DHS/USCIS-007 Benefits Information System may be shared with other DHS Components that have a need to know the information to carry out their national security, law enforcement, immigration, intelligence, or other homeland security functions. In addition, DHS/USCIS may share information with appropriate federal, state, local, tribal, territorial, foreign, or international government agencies consistent with the routine uses set forth in this system of records notice.

Further, specifically, USCIS may share BIS information with DHS's U.S. Immigration and Customs Enforcement (ICE) Financial Operations—Burlington regarding fees charged during the various immigration requests processes to ensure collection of debts. The primary mission of the ICE Financial Operations—Burlington is to collect debts resulting from an individual's participation in DHS benefits programs. As such, through DHS's ICE Financial Operations—Burlington office, BIS information may be shared with credit reporting agencies.

This modified system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the JRA, along with judicial review for denials of such requests. In addition, the JRA prohibits disclosures of covered records, except as otherwise permitted by the Privacy Act.

Below is the description of the DHS/USCIS-007 Benefits Information System System of Records.

In accordance with 5 U.S.C. 552a(r), DHS has provided a report of this system of records to the Office of Management and Budget and to Congress.

SYSTEM NAME AND NUMBER:

Department of Homeland Security (DHS)/U.S. Citizenship and Immigration Services (USCIS)-007 Benefits Information System.

SECURITY CLASSIFICATION:

Unclassified and Classified.

SYSTEM LOCATION:

Records are maintained at the U.S. Citizenship and Immigration Services Headquarters in Washington, DC, and DHS/USCIS service centers and domestic and international field offices. Records are also maintained in DHS/USCIS information technology (IT) systems (e.g., Computer Linked Application Information Management System (CLAIMS) 3, USCIS Electronic Immigration System (ELIS), Case and Activity Management for International Operations (CAMINO)).

SYSTEM MANAGER(S):

Chief, Immigration Records and Identity Services, Identity and Information Management Division (IIMD), fieldrequests@uscis.dhs.gov, U.S. Citizenship and Immigration Services, Department of Homeland Security, 20 Massachusetts Avenue NW, Washington, DC 20529.

AUTHORITY FOR MAINTENANCE OF THE SYSTEM:

Sections 103 and 290 of the Immigration and Nationality Act, as amended (8 U.S.C. secs. 1103 and 1360), the regulations issued pursuant thereto; and Section 451 of the Homeland Security Act of 2002 (Pub. L. 107-296).

PURPOSE(S) OF THE SYSTEM:

The purpose of this system is to permit USCIS's collection, use, maintenance, dissemination, and storage of paper and electronic immigration-related request information, including case processing and decisional data. These records assist in the processing of immigrant and nonimmigrant benefit requests and other immigration-related requests from the time when USCIS collects the information from the immigration-related requestor until the case receives a final decision in the relevant case management system.⁵ This system of records enables DHS/USCIS to process benefit requests electronically, determine the status of pending benefit requests, account for and control the receipt and disposition of any fees and refunds collected, conduct searches pursuant to requests under the Freedom of Information Act (FOIA) and Privacy Act, and locate related physical and automated files to support DHS/USCIS responses to inquiries about these records. This system of records may also be used in support of monitoring employee performance and production reporting purposes, including tracking an employee or contractor's workload and efficiency in processing a particular benefit request, managing workloads, and providing statistical analyses to USCIS leadership.

⁵ This system of records does not cover requests for intercountry adoption, asylum, or refugee status.

DHS/USCIS maintains a replica of some or all of the data in application databases on DHS unclassified and classified networks to allow for analysis and vetting consistent with the above stated purposes and this published notice.

CATEGORIES OF INDIVIDUALS COVERED BY THE SYSTEM:

Categories of individuals covered by this system include (1) individuals who have filed, for themselves or on the behalf of others (benefit requestors and beneficiaries and other immigration-related requestors), requests for immigration benefits and other requests under the Immigration and Nationality Act as amended, and/or who have submitted fee payments or received refunds from such requests; (2) current, former, and potential derivatives of requestors (family members); (3) sponsors (e.g., employers, law enforcement officers, or other individuals); (4) attorneys; (5) prospective representatives seeking recognition from and current accredited representatives recognized by USCIS and/or by the Board of Immigration Appeals (Representatives); (6) interpreters; (7) individuals who assist in the preparation of the immigration-related request forms (Preparers); (8) individuals who make fee payments on behalf of the immigration-related requestor; (9) physicians who conduct immigration-related medical examinations; and (10) obligors (surety) and their agents.

CATEGORIES OF RECORDS IN THE SYSTEM:

Information about benefit requestors, beneficiaries, and family members may include:

• Full name;

• Alias(es);

• Physical, destination, and mailing addresses (including foreign and domestic);

• Unique Identifying Numbers (e.g., Alien Number, USCIS Online Account Number, Social Security number (SSN), and Data Universal Numbering System (DUNS) Number);

• Date of birth and/or death;

• Nationality and/or Place of Birth (including city, region, and country of birth);

• Country or countries of citizenship;

• Country of Residence;

• Gender and/or sex;

• Marital status;

• Military status;

• Phone and fax numbers;

• Email address;

• Immigration status;

• Publicly available social media information and information from public-facing websites;

• Responses to questions on immigration benefit forms (e.g., have you ever claimed to be a U.S. citizen; do you owe any federal, state, or local taxes)

• Government-issued identification (e.g., passports, driver's license, national ID):

○ Document type;

○ Issuing country and/or organization;

○ Document number;

○ Issue Date;

○ Expiration date;

• Notices and communications, including:

○ Receipt notices;

○ Requests for Evidence;

○ Notices of Intent to Deny;

○ Proofs of benefit;

• Type of benefit requested;

• Signature (wet and digital);

• Immigration-related request fee payment information (e.g., credit card number, Pay.gov Payment Tracking Number); and

• Audio-visual recordings, including interviews and naturalization ceremonies.

Benefit-specific eligibility information about benefit requestor, beneficiaries, and family members may include:

• Other unique identifying numbers (e.g., Department of State (DOS)-Issued Personal Identification Number, ICE Student and Exchange Visitor Number, USCIS E-Verify Company Identification Number);

• Arrival/Departure Information;

• Immigration history (e.g., citizenship/naturalization certificate number, apphrensions, removals, explanations);

• Familial relationships (e.g., parent, spouse, sibling, child, other dependents);

• Relationship Practices (e.g., polygamy, custody, guardianship);

• USCIS Receipt/Case Number;

• Personal background information (e.g., involvement with national security threats; criminal offenses; Communist Party membership; participation in torture, genocide, killing, injuring, forced sexual contact, limiting or denying others religious beliefs, weapons distribution, or combat training; service in military or other armed groups, work in penal or detention systems);

• Records regarding organization membership or affiliation;

• Health information (e.g., vaccinations, referrals, communicable diseases, physical or mental disorders or disabilities, prostitution, drug or alcohol abuse);

• Travel history;

• Education history;

• Employment history;

• Professional accreditation information;

• Financial information (e.g., credit scores and reports, income, expenses, scholarships, savings, assets, property, financial support, supporter information, life insurance, debts, encumbrances, and tax records);

• Public benefit information (e.g., applications and receipt, as well as certication of receipt of pubic benefits);

• Supporting documentation as necessary (e.g., birth, marriage, and divorce certificates; licenses; academic diplomas; academic transcripts; appeals or motions to reopen or reconsider decisions; explanatory statements; deoxyribonucleic acid (DNA) results; and unsolicited information submitted voluntarily by the benefit requestor or family members in support of a benefit request);

• Physical description (e.g., height, weight, eye color, hair color, race, ethnicity, identifying marks like tattoos or birthmarks);

• Description of relationships between benefit requestors, representatives, preparers, and family members;

• Information regarding the status of Department of Justice (DOJ), Executive Office of Immigration Review (EOIR) proceedings, if applicable; and

• Case processing information such as date benefit requests were filed or received by USCIS, benefit request status, location of record, other control number when applicable, and fee receipt data.

Information about Benefit Sponsors may include:

• Full name;

• Gender and/or sex;

• Physical and mailing addresses;

• Phone and fax numbers;

• Country of domicile;

• Date of birth;

• Place of birth;

• Citizenship information;

• SSN;

• A-Number;

• USCIS Online Account Number;

• Employment information;

• Financial information (e.g., income, expenses, scholarships, savings, assets, property, financial support, supporter information, life insurance, debts, encumbrances, tax records);

• Position and relationship to an organization (e.g., manager of a company seeking formal recognition by USCIS);

• Family relationships (e.g., parent, spouse, sibling, natural, foster, and/or adopted child, other dependents); and

• Relationship practices (e.g., polygamy, custody, guardianship).

Information about Attorneys and current and/or prospective Accredited Representatives include:

• Name;

• USCIS Online Account Number

• Other identifying numbers (e.g., Attorney Bar Card Number or equivalent);

• Law firm/recognized organization;

• Physical and mailing addresses;

• Phone and fax numbers;

• Email address;

• Bar membership and Bar number;

• Accreditation date;

• Board of Immigration Appeals Representative Accreditation;

• Expiration date;

• Law Practice Restriction explanation;

• Educational and training history;

• Work history and qualifications;

• Academic and professional achievements;

• Letters of recommendation; and

• Signature.

Information about Preparers and Interpreters may include:

• Full name;

• Organization;

• Business State ID number;

• Employer Tax Identification Number;

• Physical and mailing addresses;

• Email address;

• Phone and fax numbers;

• Relationship to benefit requestor; and

• Signature.

Information about individuals who make fee payments on behalf of the immigration-related requestor includes:

• Name;

• Email address;

• Phone number;

• Mailing address; and

• Payment information.

Information about Physicians may include:

• Full name;

• Organization name;

• Physical and mailing addresses;

• Phone number;

• Fax number;

• Professional experience;

• License number;

• Other Physician Identifying Number(s);

• Licensing state and date of issuance;

• Type of degree/license (such as medical doctor, doctor of osteopathy, or clinical psychologist);

• Type of medical practice;

• Examination dates of the benefit requestor;

• Clinical methods used to diagnose benefit requestor;

• Email address; and

• Signature.

Information about obligor (surety) and its agents (co-obligor) may include:

• Name;

• Unique Identifying Number (e.g., Taxpayer Identification Number (TIN), Employer Identification Number (EIN), SSN (in some cases, the obligor's TIN or EIN may be the individual's SSN, and DUNS Number));

• Address (Street, City, State and Zip Code);

• Telephone Number;

• Email Address;

• Power of Attorney (evidencing authority to act on behalf of the surety) and Power of Attorney number;

• Signature; and

• Information about bond (e.g., receipt number and bond amount).

RECORD SOURCE CATEGORIES:

DHS/USCIS obtains records from the immigration requestor, his or her Representative, Physician, Preparer, Interpreter, or obligor and its agents. DHS/USCIS personnel may input information as they process a case, including information from internal and external sources to verify whether a requestor or family member is eligible for the immigration-related request. BIS also stores and uses information from the following USCIS, DHS, and other federal agency systems of records:

• DHS/USCIS/ICE/CBP-001 Alien File, Index, and National File Tracking System of Records, September 18, 2017 (82 FR 43556);

• DHS/USCIS-005 Inter-Country Adoptions, November 8, 2016 (81 FR 78614);

• DHS/USCIS-006 Fraud Detection and National Security Records (FDNS), August 8, 2012 (77 FR 47411);

• DHS/USCIS-010 Asylum Information and Pre-Screening System of Records, November 30, 2015 (80 FR 74781);

• DHS/USCIS-017 Refugee Case Processing and Security Screening Information System of Records, October 19, 2016 (81 FR 72075);

• DHS/USCIS-018 Immigration Biometric and Background Check Records System of Records, July 31, 2018 (83 FR 36950);

• DHS/CBP-011 U.S. Customs and Border Protection TECS, December 19, 2008 (73 FR 77778);

• DHS/ICE-001 Student and Exchange Visitor Information System, January 5, 2010 (75 FR 412);

• DHS/ICE-011 Criminal Arrest Records and Immigration Enforcement Records (CARIER), October 19, 2016 (81 FR 72080);

• DHS/CBP-021 Arrival and Departure Information System (ADIS), November 18, 2015 (80 FR 72081);

• JUSTICE/EOIR-001 Records and Management Information System, January 25, 2007 (72 FR 3410);

• JUSTICE/FBI-002 The FBI Central Records System, January 25, 2007 (72 FR 3410);

• JUSTICE/FBI-009 Fingerprint Identification Records System (FIRS), January 25, 2007 (72 FR 3410);

• DOL/ETA-7 Employer Application and Attestation File for Permanent and Temporary Alien Workers, January 10, 2012 (77 FR 1728);

• STATE-05 Overseas Citizens Services Records, May 2, 2008 (73 FR 24343);

• STATE-26 Passport Records, July 6, 2011 (76 FR 34966);

• STATE-39 Visa Records, October 25, 2012 (77 FR 65245); and

• TREASURY/FMS-017 Collections Records, May 15, 2009 (74 FR 23006).

ROUTINE USES OF RECORDS MAINTAINED IN THE SYSTEM, INCLUDING CATEGORIES OF USERS AND PURPOSES OF SUCH USES:

Information in this system of records contains information relating to individuals who received benefit requests for special protected classes and should not be disclosed pursuant to a routine use unless disclosure is otherwise permissible under the confidentiality statutes, regulations, or policies applicable to that information. For example, information relating to individuals who received benefit requests for protection under the Violence Against Women Act, Seasonal Agricultural Worker or Legalization claims, the Temporary Protected Status of an individual, and information relating to nonimmigrant visas protected under special confidentiality provisions should not be disclosed pursuant to a routine use unless disclosure is otherwise permissible under the confidentiality statutes, regulations, or policies applicable to that information. These confidentiality provisions do not prevent DHS from disclosing information to the DOJ and U.S. Attorneys Offices as part of an ongoing criminal or civil investigation.

In addition to those disclosures generally permitted under 5 U.S.C. 552a(b) of the Privacy Act, all or a portion of the records or information contained in this system may be disclosed outside DHS as a routine use pursuant to 5 U.S.C. 552a(b)(3) as follows:

A. To DOJ, including the U.S. Attorney's Offices, or other federal agencies conducting litigation or proceedings before any court, adjudicative, or administrative body, when it is relevant or necessary to the litigation or proceeding and one of the following is a party to the litigation or proceeding or has an interest in such litigation or proceeding:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations, and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To clerks and judges of courts exercising naturalization jurisdiction for the purpose of filing applications for naturalization and to enable such courts to determine eligibility for naturalization or grounds for revocation of naturalization.

J. To the Department of State for the purpose of assisting in the processing of benefit requests under the Immigration and Nationality Act, and all other immigration and nationality laws including treaties and reciprocal agreements.

K. To appropriate federal, state, tribal, and local government law enforcement and regulatory agencies, foreign governments, and international organizations, as well as to other individuals and organizations during the course of an investigation by DHS or the processing of a matter under DHS jurisdiction, or during a proceeding within the purview of the immigration and nationality laws, when DHS deems that such disclosure is necessary to carry out its functions and statutory mandates to elicit information required by DHS to carry out its functions and statutory mandates.

L. To an appropriate federal, state, local, tribal, foreign, or international agency, if the information is relevant and necessary to a requesting agency's decision concerning the hiring or retention of an individual; issuance of a security clearance, license, contract, grant, or other benefit; or if the information is relevant and necessary to a DHS decision concerning the hiring or retention of an employee, the issuance of a security clearance, the reporting of an investigation of an employee, the letting of a contract, or the issuance of a license, grant, or other benefit and when such disclosure is appropriate to the proper performance of the official duties of the person making the request.

M. To the Office of Management and Budget in connection with the review of private relief legislation as set forth in OMB Circular No. A-19 at any stage of the legislative coordination and clearance process as set forth in the Circular.

N. To an attorney or representative (as defined in 8 CFR 1.1(j)) who is acting on behalf of an individual covered by this system of records in connection with any proceeding before DHS/USCIS or the DOJ Executive Office for Immigration Review.

O. To a federal, state, tribal, or local government agency to assist such agencies in collecting the repayment of loans, fraudulently or erroneously secured benefits, grants, or other debts owed to them or to the U.S. Government, or to obtain information that may assist USCIS in collecting debts owed to the U.S. Government;

P. To a foreign government to assist such government in collecting the repayment of loans, fraudulently or erroneously secured benefits, grants, or other debts owed to it, provided that the foreign government in question:

1. Provides sufficient documentation to establish the validity of the stated purpose of its request; and

2. Provides similar information to the United States upon request.

Q. To a coroner for purposes of affirmatively identifying a deceased individual (whether or not such individual is deceased as a result of a crime).

R. Consistent with the requirements of the Immigration and Nationality Act, to the Department of Health and Human Services (HHS), the Centers for Disease Control and Prevention (CDC), or to any state or local health authorities, to:

1. Provide proper medical oversight of DHS-designated civil surgeons who perform medical examinations of both arriving foreign nationals and of those requesting status as a lawful permanent resident; and

2. To ensure that all health issues potentially affecting public health and safety in the United States are being, or have been, adequately addressed.

S. To a federal, state, or local government agency seeking to verify or ascertain the citizenship or immigration status of any individual within the jurisdiction of the agency for any purpose authorized by law.

T. To the Social Security Administration (SSA) for the purpose of issuing a Social Security number and card to an alien who has made a request for a Social Security number as part of the immigration process and in accordance with any related agreements in effect between the SSA, DHS, and the Department of State entered into pursuant to 20 CFR 422.103(b)(3); 422.103(c); and 422.106(a), or other relevant laws and regulations.

U. To a former employee of DHS, in accordance with applicable regulations, for purposes of responding to an official inquiry by a federal, state, or local government entity or professional licensing authority or facilitating communications with a former employee that may be necessary for personnel-related or other official purposes when the Department requires information or consultation assistance from the former employee regarding a matter within that person's former area of responsibility.

V. To an individual's prospective or current employer to the extent necessary to determine employment eligibility (e.g., pursuant to the Form I-140, Immigrant Petition for Alien Worker) or, USCIS may share information with the petitioning employers to aid in the approval or denial of a request to become a permanent resident.

W. To a federal, state, or local agency, or other appropriate entities or individuals, or through established liaison channels to selected foreign governments, in order to provide intelligence, counterintelligence, or other information for the purposes of intelligence, counterintelligence, or antiterrorism activities authorized by U.S. law or Executive Order.

X. To approved federal, state, and local government agencies that grant public benefits, licenses, grants, governmental credentials, or for any other statutorily authorized purpose when the immigration status of the benefit applicant is legally required and an approved Memorandum of Agreement or Computer Matching Agreement (CMA) is in place between DHS and the entity.

Y. To the Department of Labor for enforcement of labor certification violations and violations of U.S. labor laws.

Z. To the news media and the public during the course of naturalization ceremonies administered by USCIS or a Federal Judge. Pursuant to 8 CFR 337.2 individuals to be naturalized are generally required to appear in a public ceremony, unless an appearance is specifically excused.

AA. To the Department of Treasury to perform initial processing of benefit requests and to accept and resolve payment and any related issues.

BB. To appropriate federal, state, local, tribal, or foreign governmental agencies or multilateral governmental organizations, with the approval of the Chief Privacy Officer, when DHS is aware of a need to use relevant data, that relate to the purpose(s) stated in this SORN, for purposes of testing new technology.

CC. To federal, state, local, and tribal benefit granting agencies (e.g., Social Security, housing, food, unemployment) to ascertain whether public benefits have been issued to the immigration requestor.

DD. To an individual or entity seeking to post or arrange, or who has already posted or arranged, an immigration bond for an alien, to aid the individual or entity in (1) identifying the location of the alien; (2) posting the bond; (3) obtaining payments related to the bond; or (4) conducting other administrative or financial management activities related to the bond.

EE. To a consulting entity (e.g., a labor organization or management organization) that provided an advisory opinion on a petition to USCIS seeking O or P nonimmigrant classification. USCIS may disclose the outcome of the petition to the consulting entity that provided an advisory opinion on the petition.

FF. To the news media and the public, with the approval of the Chief Privacy Officer in consultation with counsel, when there exists a legitimate public interest in the disclosure of the information; when disclosure is necessary to preserve confidence in the integrity of DHS; or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/USCIS stores records in this system electronically or on paper in secure facilities, such as in a locked drawer or behind a locked door. The records may also be stored on magnetic disc, tape, and digital media.

POLICIES AND PRACTICES FOR RETRIEVAL OF RECORDS:

DHS/USCIS may retrieve records by using any of the data elements listed above or a combination thereof. This may include, but is not limited to, name, date of birth, Alien Number, SSN, USCIS Online Account Number, and Receipt Number.

POLICIES AND PRACTICES FOR RETENTION AND DISPOSAL OF RECORDS:

USCIS receives and adjudicates immigration request forms. Each form type is governed by a respective retention schedule and each form type's retention period is dictated by USCIS's final action on the form (e.g., approved, denied, abandoned, withdrawn, administratively closed, and rejected). Immigration request forms and supplemental documentation that constitute the official record of an individual's immigration history are stored in the individual's paper and/or electronic Alien File. The Alien File records are permanent, whether hard copy or electronic. DHS/USCIS is eligible to transfer Alien Files to the custody of NARA 100 years after the individual's date of birth.

USCIS uses multiple case management systems for the processing, adjudication, and management of paper and electronically filed immigration request forms. Each case management system retains records in accordance with NARA-approved retention schedules. Generally, information is retained between 25-50 years from the last completed action. The duration of the NARA-approved retention schedules allows USCIS to address any follow-up inquiries or requests related to the immigration request form, including inquiries related to law enforcement, public safety, national security, and to FOIA and Privacy Act matters. These retention periods allow USCIS to provide as much information as possible to an individual regarding his or her immigration history.

Electronic notices and communications associated with an immigration request, to include Approval or Denial letters, Requests for Evidence, Notices of Intent to Deny, Appeal/Motion Responses, etc., are retained for 13 years after the last completed action with respect to the benefit.

Records of electronic appointments with USCIS are maintained for 60 days after the date of the appointment.

Daily reports generated by associated information technology systems are maintained in accordance with the general records retention schedule that permits USCIS to destroy reports when no longer needed.

Records replicated on the unclassified and classified networks for analysis and vetting will follow the same retention schedule.

ADMINISTRATIVE, TECHNICAL, AND PHYSICAL SAFEGUARDS:

DHS/USCIS safeguards records in this system according to applicable rules and policies, including all applicable DHS automated systems security and access policies. USCIS has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing or electronically to the Chief Privacy Officer or USCIS's FOIA Officer, whose contact information can be found at http://www.dhs.gov/foia under “Contact Information.” If an individual believes more than one component maintains Privacy Act records concerning him or her, the individual may submit the request to the Chief Privacy Officer and Chief FOIA Officer, Department of Homeland Security, Washington, DC 20528-0655. Even if neither the Privacy Act nor the Judicial Redress Act provides a right of access, certain records may be available under the FOIA.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief FOIA Officer, http://www.dhs.gov/foia or 1-866-431-0486. In addition, the individual should:

• Explain why he or she believe the Department would have information being requested;

• Identify which component(s) of the Department he or she believe may have the information;

• Specify when the individual believes the records would have been created; and

• Provide any other information that will help the FOIA staff determine which DHS component agency may have responsive records;

If an individual's request is seeking records pertaining to another living individual, the first individual must include a statement from the second individual certifying that individual's agreement for the first individual to access his/her records.

Without the above information, the component(s) may not be able to conduct an effective search, and the individual's request may be denied due to lack of specificity or lack of compliance with applicable regulations.

CONTESTING RECORD PROCEDURES:

For records covered by the Privacy Act or covered JRA records, see “Record Access Procedures” above. Any individual, regardless of immigration status, may file a request to access his or her information under the FOIA. Throughout the benefit determination process, and prior to USCIS making a determination to deny a benefit request, USCIS provides individuals with the opportunity to address and correct the information.

NOTIFICATION PROCEDURES:

See “Record Access Procedures” above.

EXEMPTIONS PROMULGATED FOR THE SYSTEM:

None. However, when this system receives a record from another system exempted under 5 U.S.C. 552a, DHS will claim the same exemptions for those records that are claimed for the original primary systems of records from which they originated.

HISTORY:

81 FR 72069 (October 19, 2016); 73 FR 56596 (September 29, 2008).

Jonathan R. Cantor,
Acting Chief Privacy Officer, Department of Homeland Security.

[FR Doc. 2019-22156 Filed 10-9-19; 8:45 am]

BILLING CODE 9111-17-P